DEPARTMENT OF HOMELAND SECURITY

Coast Guard

[CGD05-05-088]

Re-opening of South Berth at Dominion Cove Point Liquefied Natural Gas Facility, Calvert County, MD

AGENCY: Coast Guard, DHS.

ACTION: Notice; request for public comments.

SUMMARY: The Coast Guard announces the review of a request from Dominion Cove Point Liquefied Natural Gas (LNG) Limited Partnership to begin using the south berth of its facility for receiving LNG vessels. The Coast Guard solicits public comments to consider during the approval process for this request.

DATES: Comments and related material must reach U.S. Coast Guard Sector Baltimore on or before September 7, 2005.

ADDRESSES: You may submit comments identified by Coast Guard docket number CGD05-05-088 to U.S. Coast Guard Sector Baltimore. To avoid duplication, please use only one of the following methods:

(1) Mail: Commander, U.S. Coast Guard Sector Baltimore, 2401 Hawkins Point Road, Baltimore, MD 21226-1791, Attn: Cove Point South Berth.

(2) Fax: 410-576-2553.

(3) Hand delivery: Room 208 of Building 70 on the Coast Guard Yard Curtis Bay, 2401 Hawkins Point Road, Baltimore, MD, between 9 a.m. and 3 p.m., Monday through Friday, except Federal holidays. The telephone number is 410-576-2619.

(4) Electronic mail: jdufresne@actbalt.uscg.mil.

FOR FURTHER INFORMATION CONTACT: If you have questions on this notice, or if you have questions on viewing or submitting material to the docket, call LCDR Joe DuFresne, Coast Guard Sector Baltimore, Waterways Management Division, at telephone 410-576-2619.

SUPPLEMENTARY INFORMATION:

Request for Comments

If you submit a comment, please include your name and address, identify the docket number for this notice (CGD05-05-088) and give the reason for each comment. You may submit your comments by electronic means, mail, fax, or delivery to Coast Guard Sector Baltimore at the address under ADDRESSES; but please submit your comments by only one means. If you submit comments by mail or delivery, submit them in an unbound format, no larger than 8½ by 11 inches, suitable for copying and electronic filing. If you submit comments by mail and would like to know that they reached the address listed under ADDRESSES, please enclose a stamped, self-addressed postcard or envelope. We will consider all comments received during the comment period.

Background and Purpose

On October 25, 2000, Cove Point LNG Limited Partnership submitted a Letter of Intent to reopen the LNG Terminal at Cove Point, Calvert County, Maryland, located on the Chesapeake Bay. On December 23, 2002, the Captain of the Port, Baltimore, submitted a Letter of Recommendation addressing several items pertaining to the suitability of the Chesapeake Bay for LNG transport.

One item dealt with the depth of water required to accommodate the maximum 36 foot draft of a typical LNG tanker. It was noted that the northern berth of the Cove Point LNG terminal pier was able to accommodate vessels with this draft. However, the 36 foot mean low water depth of the southern berth (38°24′ N, 76°23′ W) could not. The Letter of Recommendation, therefore, noted that the south berth would not be suitable for LNG marine traffic unless the water depth was increased by dredging.

On April 28, 2005, Dominion Cove Point LNG Limited Partnership submitted a letter to the Captain of the Port, Baltimore, requesting approval to receive LNG tankers at the south berth, provided that the vessels had a fully laden draft of no more than 34 feet. These smaller vessels could be accommodated at the Cove Point facility's south berth without dredging.

The Coast Guard understands that if this request is approved, operations at Cove Point will not change other than allowing smaller LNG tankers to moor at the south berth. There will still only be one LNG vessel moored at Cove Point at any given time.

No public meeting is currently planned to discuss this issue. However, if the response from this request for comment implies that a public meeting is strongly desired, we will schedule one.

Dated: July 20, 2005.
Curtis A. Springer,
Captain, U.S. Coast Guard, Commander, U. S. Coast Guard Sector Baltimore, Baltimore, Maryland.

[FR Doc. 05-15616 Filed 8-5-05; 8:45 am]

BILLING CODE 4910-15-P